DEPARTMENT OF COMMERCE

National Oceanic and Atmospheric Administration

RIN 0648-XE042

Endangered Species; File No. 18238

AGENCY: National Marine Fisheries Service (NMFS), National Oceanic and Atmospheric Administration (NOAA), Commerce.

ACTION: Notice; receipt of application.

SUMMARY: Notice is hereby given that NMFS Southwest Fisheries Science Center (SWFSC), 8901 La Jolla Shore Dr., La Jolla, CA 92037, [Responsible Party: Lisa Ballance, Ph.D.], has applied in due form for a permit to take green (Chelonia mydas), loggerhead (Caretta caretta), and olive ridley (Lepidochelys olivacea) sea turtles for purposes of scientific research.

DATES: Written, telefaxed, or email comments must be received on or before August 28, 2015.

ADDRESSES: The application and related documents are available for review by selecting “Records Open for Public Comment” from the Features box on the Applications and Permits for Protected Species (APPS) home page, https://apps.nmfs.noaa.gov, and then selecting File No. 18238 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Brendan Hurley, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The SWFSC requests a five-year research permit proposes to continue long-term monitoring of resident green sea turtles in southern California to characterize population structure, foraging ecology, and migration patterns. Up to 60 green, five olive ridley, and five loggerhead sea turtles would be captured annually using entanglement, seine, or dip net and have the following procedures performed before release: photography/video; temporary marking the carapace; flipper tagging and passive integrated transponder tagging; ultrasound; morphometrics; tetracycline injection; biological sampling; cloacal and oral swabbing; lavage; and up two transmitter attachments. Animals with transmitters may be surveyed and tracked by vessel after release. The permit would be valid for five years from the date of issuance.

Dated: July 23, 2015.
Julia Harrison,
Chief, Permits and Conservation Division, Office of Protected Resources, National Marine Fisheries Service.

[FR Doc. 2015-18551 Filed 7-28-15; 8:45 am]

BILLING CODE 3510-22-P